DEPARTMENT OF COMMERCE

National Oceanic and Atmospheric Administration

50 CFR Part 635

[I.D. 101700B]

Atlantic Highly Migratory Species Fisheries; Atlantic Bluefin Tuna

AGENCY: National Marine Fisheries Service (NMFS), National Oceanic and Atmospheric Administration (NOAA), Commerce.

ACTION: Retention limit adjustment.

SUMMARY: NMFS adjusts the daily retention limit for the Angling category fishery for Atlantic bluefin tuna (BFT) in all areas to two school BFT, measuring 27 to less than 47 inches (69 to less than 119 cm) curved fork length, and two BFT from either the large school or small medium size class, measuring 47 to less than 73 inches (119 to less than 150 cm) curved fork length, per vessel from October 22, 2000, through November 26, 2000. In addition, NMFS is making subsequent adjustments to the daily retention limit. This action is being taken to provide increased fishing and data collection opportunities in all areas without risking overharvest of this category.

DATES: Effective 1 a.m., local time, October 22, 2000, until 11:30 p.m., local time, November 26, 2000, the daily retention limit in all areas is adjusted to two school BFT and two large school or small medium BFT.

Effective November 27, 2000, the daily retention limit in all areas is adjusted to one large school or small medium BFT until May 31, 2001.

FOR FURTHER INFORMATION CONTACT: Pat Scida or Brad McHale, 978-281-9260.

SUPPLEMENTARY INFORMATION: Regulations implemented under the authority of the Atlantic Tunas Convention Act (16 U.S.C. 971 et seq.) and under the Magnuson-Stevens Fishery Conservation and Management Act (16 U.S.C. 1801 et seq.) governing the harvest of BFT by persons and vessels subject to U.S. jurisdiction are found at 50 CFR part 635.

Implementing regulations for the Atlantic tuna fisheries at 50 CFR 635.23 allow for adjustments to the daily retention limits in order to provide for maximum utilization of the quota spread over the longest possible period of time. NMFS may increase or reduce the per-angler retention limit for any size class BFT or may change the per-angler limit to a per-boat limit or the per-boat limit to a per-angler limit. In addition, NMFS may make closures or changes to a retention limit effective in certain areas and/or regions.

NMFS is responsible for implementing a recommendation of the International Commission for the Conservation of Atlantic Tunas (ICCAT) to limit the catch of school BFT to no more than 8 percent by weight of the total domestic quota over each 4-consecutive-year period. NMFS implements this ICCAT recommendation through annual and inseason adjustments to the school BFT landings and school BFT reserve categories, as necessary, and through the establishment of a school BFT reserve (64 FR 29090, May 28, 1999; 65 FR 42883, July 12, 2000). The recent ICCAT recommendation allows NMFS more flexibility to make interannual adjustments for overharvests and underharvests, provided that the 8-percent landings limit is met over the applicable 4-consecutive-year period. This approach provides NMFS with the flexibility to enhance fishing opportunities and the collection of information on a broad range of BFT size classes and responds to requests from the recreational fishing community for more advance notice of retention limit adjustments and greater stability and certainty in planning for the fishing season.

Over the last several years, NMFS has received comments from Angling category fishermen that the implementation of an increased daily retention limit over a date-certain period is preferable to a longer season with a lower daily retention limit as it facilitates the scheduling of fishing trips, particularly charter trips. In 2000, as in 1999, NMFS increased the daily retention limit for two date-certain time periods, and comments from Angling category participants have been positive. The most recent period with an increased daily retention limit was September 1 through October 15, 2000, when the limit was two school BFT and two large school or small medium BFT per vessel, in all areas.

Preliminary Large Pelagic Survey estimates of landings for June through October 1, 2000, indicate that approximately 16.3 metric tons (mt) of school BFT and approximately 37.8 mt of large school or small medium BFT have been landed. These figures are approximately 12.0 and 15.7 percent of the 2000 Angling category quotas for school and large school or small medium BFT, respectively, as established on July 12, 2000 (65 FR 42883) and subsequently adjusted by an inseason transfer of 60 mt from the Angling North large school or small medium subcategory to the General category.

Since October 16, 2000, the daily retention limit has been set at one large school or small medium BFT per vessel. Considering the relatively low landings to date, the availability of quota, and recent reports that BFT are still available to anglers in portions of the mid-Atlantic fishing area, NMFS has determined that an increase to the Angling category daily retention limit is warranted. Consistent with the objectives of the Fishery Management Plan for Atlantic Tunas, Swordfish, and Sharks, such an increase would allow for maximum utilization of the U.S. landings quota of BFT while maintaining a fair distribution of fishing opportunities, would help achieve optimum yield in the Angling category fishery, and would help collect a broad range of data for stock monitoring purposes.

Effective October 22, 2000, through November 26, 2000, the BFT Angling category daily retention limit for all areas will be two school BFT and two BFT from either the large school or small medium size class per vessel. After November 26, 2000, the daily retention limit for all areas will be one large school or small medium BFT per vessel. The daily retention limit and the duration of daily retention limit adjustment have been selected based on an examination of past and current catch and effort rates. NMFS will continue to monitor the Angling category fishery closely through the Automated Landings Reporting System, the state harvest tagging programs in North Carolina and Maryland, and the Large Pelagic Survey. Depending on the level of fishing effort and catch rates of BFT, NMFS may determine that an interim closure or additional retention limit adjustment, in all or some areas, is necessary to enhance scientific data collection and fishing opportunities. Additionally, NMFS may determine that an allocation from the school BFT reserve is warranted to further fishery management objectives.

Closures or subsequent adjustments to the daily retention limit, if any, shall be announced through publication in the Federal Register. In addition, anglers may call the Atlantic Tunas Information Line at 888-USA-TUNA (888-872-8862) or 978-281-9305 for updates on quota monitoring and retention limit adjustments. Anglers aboard Charter/Headboat category vessels, when engaged in recreational fishing for school, large school, and small medium BFT are subject to the same rules as anglers aboard Angling category vessels. All BFT landed under the Angling category quota must be reported within 24 hours of landing to the NMFS Automated Landings Reporting System by calling 888-USA-TUNA (888-872-8862) or, if landed in the states of North Carolina or Maryland, to a reporting station prior to offloading. Information about these state harvest tagging programs, including reporting station locations, can be obtained in North Carolina by calling (800) 338-7804, and in Maryland by calling (410) 213-1531.

Classification

This action is taken under 50 CFR 635.23(b)(3). This action is exempt from review under Executive Order 12866.

Authority: 16 U.S.C. 971 et seq. and 1801 et seq.

Dated: October 19, 2000.
Dean Swanson,
Acting Director, Office of Sustainable Fisheries, National Marine Fisheries Service.

[FR Doc. 00-27313 Filed 10-20-00; 2:28 pm]

BILLING CODE: 3510-22 -S